DEPARTMENT OF COMMERCE

International Trade Administration

[C-583-604]

Revocation of Countervailing Duty Order: Top-of-the-Stove Stainless Steel Cookware from Taiwan

AGENCY: Import Administration, International Trade Administration, Department of Commerce.

SUMMARY: As a result of the determinations by the Department of Commerce (“the Department”) and the International Trade Commission (“ITC”) determined that revocation of the countervailing duty (“CVD”) order on top-of-the-stove stainless steel (“TOS”) cookware from Taiwan would not be likely to lead to continuation or recurrence of dumping or material injury to an industry in the United States, and the Department is publishing this notice of revocation of the CVD order.

EFFECTIVE DATE: April 18, 2005.

FOR FURTHER INFORMATION CONTACT: Tipten Troidl or David Goldberger, AD/CVD Operations, Import Administration, International Trade Administration, U.S. Department of Commerce, 14th Street and Constitution Avenue, NW., Washington, DC 20230; telephone: (202) 482-1767 or (202) 482-4136, respectively.

SUPPLEMENTARY INFORMATION:

Background

On November 26, 1986, the Department published its final affirmative CVD determination on TOS cookware from Taiwan in the Federal Register. See Final Affirmative Countervailing Duty Determination: Certain Stainless Steel Cooking Ware from Taiwan, 51 FR 42891 (November 26, 1986). In the final determination the Department found an estimated net subsidy of 2.14 percent ad valorem for all manufacturers/producers/exporters of TOS cookware from Taiwan. On September 3, 1999, the Department published the final results of its first five-year sunset review and determined that revocation of the CVD order would be likely to lead to continuation or recurrence of a net countervailable subsidy of 2.14 percent ad valorem. See Top-of-the-Stove Stainless Steel Cookware from Taiwan, 64 FR 48372 (September 3, 1999). After an affirmative determination by the ITC, on April 18, 2000, the Department published the notice of continuation of the order. See Continuation of Antidumping Duty Orders and Countervailing Duty Orders: Top-of-the-Stove Stainless Steel Cooking Ware From Taiwan and Korea, 65 FR 20801 (April 18, 2000).

On March 1, 2005, the Department initiated, and the ITC instituted, sunset reviews of the CVD order on TOS cookware from Taiwan. See Notice of Initiation of Five-year (“Sunset”) Reviews, 70 FR 9919 (March 1, 2005). As a result of its review, the Department found that revocation of the CVD order would likely lead to continuation or recurrence of a countervailable subsidy, and notified the ITC of the net countervailable subsidy likely to prevail were the order to be revoked. See Final Results of Expedited Sunset Review of Countervailing Duty Order: Top-of-the-Stove Stainless Steel Cookware from Taiwan, 70 FR 57856 (October 4, 2005).

On November 8, 2005, the ITC determined, pursuant to section 751(c) of the Act, that revocation of the CVD order on TOS cookware from Taiwan would not likely lead to continuation or recurrence of material injury to an industry in the United States. See Porcelain-on-Steel Cooking Ware From China and Taiwan; Top-of-the-Stove Stainless Steel Cooking Ware From Korea and Taiwan, 70 FR 67740 (November 8, 2005) and USITC Publication 3808 (October 2005), entitled Porcelain-on-Steel Cooking Ware From China and Taiwan, and Top-of-the-Stove Stainless Steel Cooking Ware From Korea and Taiwan (Investigation Nos. 731-TA-298 and 299 (Second Review) and Investigation Nos. 701-TA-267 and 268 and 731-TA-304 and 305 (Second Review)).

Scope of the Order

The merchandise subject to this CVD order is TOS cookware from Taiwan. The subject merchandise is all non-electric cooking ware of stainless steel which may have one or more layers of aluminum, copper or carbon steel for more even heat distribution. The subject merchandise includes skillets, frying pans, omelette pans, saucepans, double boilers, stock pots, dutch ovens, casseroles, steamers, and other stainless steel vessels, all for cooking on stove top burners, except tea kettles and fish poachers.

Excluded from the scope of the order are stainless steel oven ware and stainless steel kitchen ware. “Universal pan lids” are not within the scope of the order (57 FR 57420, December 4, 1992).

TOS cookware is currently classifiable under Harmonized Tariff Schedule (HTS) item numbers 7323.93.00 and 9604.00.00. The HTS item numbers are provided for convenience and customs purposes only. The written description remains dispositive.

Determination

As a result of the determination by the ITC that revocation of this CVD order is not likely to lead to continuation or recurrence of material injury to an industry in the United States, the Department, pursuant to section 751(d) of the Act, is revoking the CVD order on TOS cookware from Taiwan. Pursuant to section 751(d)(2) of the Act and 19 CFR 351.222(i)(2)(i), the effective date of revocation is April 18, 2005 (i.e., the fifth anniversary of the date of publication in the Federal Register of the notice of continuation of the CVD order). The Department will notify U.S. Customs and Border Protection to discontinue suspension of liquidation and collection of cash deposits on entries of the subject merchandise entered or withdrawn from warehouse on or after April 18, 2005, the effective date of revocation of the CVD order. The Department will complete any pending administrative reviews of this order and will conduct administrative reviews of subject merchandise entered prior to the effective date of revocation in response to appropriately filed requests for review.

This five-year sunset review and notice are in accordance with section 751(d)(2) and published pursuant to section 777(i)(1) of the Act.

Dated: November 15, 2005.
Joseph A. Spetrini,
Acting Assistant Secretary for Import Administration.

[FR Doc. E5-6441 Filed 11-21-05; 8:45 am]

BILLING CODE 3510-DS-S